DEPARTMENT OF DEFENSE

Office of the Secretary

Charter Amendment of Department of Defense Federal Advisory Committees

AGENCY: Department of Defense.

ACTION: Amendment of Federal Advisory Committee.

SUMMARY: The Department of Defense (DoD) is publishing this notice to announce that it is amending the charter for the Defense Business Board (“the Board”).

FOR FURTHER INFORMATION CONTACT: Jim Freeman, Advisory Committee Management Officer for the Department of Defense, 703-692-5952.

SUPPLEMENTARY INFORMATION: The Board's charter is being amended in accordance with the Federal Advisory Committee Act (FACA) of 1972 (5 U.S.C., Appendix, as amended) and 41 CFR 102-3.50(d). Pursuant to statutory changes that took effect on February 1, 2018, the DoD disestablished the Office of the Deputy Chief Management Officer and established the Office of the Chief Management Officer (CMO). The DoD is amending the charter for the Board previously announced in the Federal Register on June 10, 2016 (81 FR 37587) to reflect a change in the committee's sponsor and a change in total membership. The CMO will be the sponsor for the Board. The amended charter and contact information for the Designated Federal Officer (DFO) can be obtained at http://www.facadatabase.gov/.

Dated: March 1, 2018.
Aaron Siegel,
Alternate OSD Federal Register Liaison Officer, Department of Defense.

[FR Doc. 2018-04515 Filed 3-5-18; 8:45 am]

BILLING CODE 5001-06-P